NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nature McGinn, ACA Permit Officer, Office of Polar Programs, Rm. 755, National Science Foundation, 4201 Wilson Boulevard, Arlington, VA 22230. Or by email: ACApermits@nsf.gov.

SUPPLEMENTARY INFORMATION: On November 18 and 15, 2016, the National Science Foundation published notices in the Federal Register of permit applications received. The permits were issued on December 28, 2016 to:

1. John Durban, Permit No. 2017-030

2. John Durban, Permit No. 2017-029

Nadene G. Kennedy,
Polar Coordination Specialist, Office of Polar Programs.

[FR Doc. 2017-00022 Filed 1-5-17; 8:45 am]

BILLING CODE 7555-01-P